DEPARTMENT OF TRANSPORTATION

Federal Railroad Administration

[Docket Number FRA-2001-10215]

Petition for Waiver of Compliance

In accordance with part 211 of Title 49 Code of Federal Regulations (CFR), this document provides the public notice that by a document dated November 1, 2012, the Finger Lakes Railway Corp. (FGLK) has petitioned the Federal Railroad Administration (FRA) to seek an extension of an existing waiver of compliance from certain provisions contained at 49 CFR Part 223-Safety Glazing Standards-Locomotives, Passenger Cars and Cabooses for six cars. The car numbers of those six cars are: FGLK 7201, FGLK 7202, FGLK 7601, FGLK7602, FGLK 1642, and FGLK 1643.

In support of an extension of the existing waiver, the FGLK petition states that the cars subject to this request are in all aspects still operating in the same service environment with no changes to speed or line segments. FGLK is following the conditions stipulated in the existing waiver. FGLK states that glass replacement continues to be an extremely high cost for an excursion operation and would jeopardize any chance of profitability for such operation for quite some time.

Additionally, the frequency of excursion services offered by FGLK has decreased by nearly 75 percent in the past 2 years as freight movements have taken precedence. This would further hamper the ability to justify any costs associated with replacing noncompliant window glass with Part 223-compliant glazing. Since the last waiver request was granted by FRA, FGLK replaced 22 pieces of noncompliant glass in 2009 at a cost of nearly $9,000.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by February 25, 2013 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on January 2, 2013.
Robert C. Lauby,
Deputy Associate Administrator for Regulatory and Legislative Operations.

[FR Doc. 2013-00222 Filed 1-8-13; 8:45 am]

BILLING CODE 4910-06-P